DEPARTMENT OF COMMERCE

National Oceanic and Atmospheric Administration

50 CFR Part 600

[Docket No. 080102007-81097-01]

RIN 0648-AW18

Magnuson-Stevens Fishery Conservation and Management Act; Regional Fishery Management Councils; Operations

AGENCY: National Marine Fisheries Service (NMFS), National Oceanic and Atmospheric Administration (NOAA), Commerce.

ACTION: Proposed rule, extension of comment period.

SUMMARY: NMFS extends the comment period for proposed regulations that address the operations and administration of regional fishery management councils (Councils).

DATES: Comments must be received by November 2, 2009.

ADDRESSES: You may submit comments, identified by “RIN 0648-AW18,” by any one of the following methods:

• Electronic Submissions: Submit all electronic public comments via the Federal eRulemaking Portal http://www.regulations.gov.

• Fax: 301-713-1175.

• Mail: Alan Risenhoover, Director, Office of Sustainable Fisheries, National Marine Fisheries Service, 1315 East-West Highway, SSMC3, Silver Spring, MD 20910. Please mark the outside of the envelope “Council Operations.”

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter n/a in the required fields, if you wish to remain anonymous). Attachments to electronic comments will be accepted in Microsoft Word, Excel, WordPerfect, or Adobe pdf file formats only.

Written comments regarding the burden-hour estimates or other aspects of the collection-of-information requirements contained in this proposed rule may be submitted to the Office of Sustainable Fisheries at the mailing address or fax number specified above and by e-mail to David_Rostker@omb.eop.gov, or fax to (202) 395-7285.

FOR FURTHER INFORMATION CONTACT: William D. Chappell, 301-713-2337.

SUPPLEMENTARY INFORMATION: Section 302 of the Magnuson-Stevens Act includes provisions for the establishment and administration of the Councils. The Magnuson-Stevens Act was reauthorized on January 12, 2007, with amendments throughout, and this proposed rule would implement some of the changes that were made to Section 302. Additionally, several issues regarding Council operations and membership have prompted proposed changes to the regulations. Key aspects of this proposed rule are: requirements relative to the Council Coordinating Committee; requirements for Scientific and Statistical Committees (SSCs) and financial interest reporting for SSC members; an update of Council and committee meeting announcement requirements; a requirement for Councils to have procedures for proposed regulations; designation of an alternate for the Indian tribal representative of the Pacific Fishery Management Council; requirements for nominating individuals to the Gulf of Mexico Fishery Management Council; revisions to the process and deadline for governors to submit Council member nominations to the Secretary; restrictions on direct or indirect lobbying by Council members, Council staff, and contractors; addition of lobbying and advocacy as types of financial interest activities that must be reported by affected individuals; and the requirement for new Council members to attend a training course. Additionally, this proposed rule would implement several minor changes in Magnuson-Stevens Act section 302, as well as a number of technical changes and minor corrections, unrelated to the reauthorization of the Act. Many of the key aspects of this proposed rule reiterate statutory requirements of the Magnuson-Stevens Act. NMFS is including this statutory text in regulations so that relevant Council process provisions both statutory and regulatory are presented together for ease of reference.

On March 27, 2009 (74 FR 13386), NMFS published this proposed rule with a comment period ending July 6, 2009. Because this proposed rule primarily affects the Councils, their input is critical in ensuring that questions regarding the requirements of this proposed rule are raised and responded to prior to a final rule being published. The original comment period allowed enough time for almost all Councils to have a meeting and discuss this proposed rule during the comment period. The Councils have now requested that the comment period be extended to allow all Councils to have two meetings during the comment period. NMFS agrees with this request and extends the comment period until November 2, 2009 to allow the Councils and the public adequate time to understand this proposed rule, discuss its effects on their circumstances, and provide their comments.

Dated: June 24, 2009.
John Oliver,
Deputy Assistant Administrator for Operations, National Marine Fisheries Service.

[FR Doc. E9-15466 Filed 6-29-09; 8:45 am]

BILLING CODE 3510-22-S